DEPARTMENT OF THE INTERIOR

Bureau of Land Management

[NV-930-1430-ES; N-55296]

Realty Action: Recreation and Public Purposes Act Classification; Washoe County, NV

AGENCY: Bureau of Land Management, Interior.

ACTION: Notice of realty action.

SUMMARY: The following federal land in Washoe County, Nevada, has been examined and found suitable for classification for lease/conveyance to the City of Sparks under the provisions of the Recreation and Public Purposes (R&PP) Act, as amended (43 U.S.C. 869 et seq.) and under section 7 of the Taylor Grazing Act, 43 U.S.C. 315f. and E.O. 6910:

Mt. Diablo Meridian

T. 20 N. R. 21 E.,

Section 18, lots 1-4, N½NE¼, W¼NE¼, W1/2SE¼, SE¼SE¼.

Containing 449.28 acres, more or less.

The City of Sparks proposes to use the land for a recreation complex which would include a sports complex, a community park, an 18-hole golf course, a natural area with an interpretive center (in partnership with Washoe County), and an equestrian center. The land is located in the eastern portion of Spanish Springs Valley, adjacent to the City of Sparks, Nevada. The land is not needed for federal purposes. Lease/conveyance is consistent with current BLM land use planning and would be in the public interest. Issuance of a 5-year lease with a purchase option is proposed. The lease/patent when issued, will be subject to provisions of the R&PP Act and to applicable regulations of the Secretary of the Interior, and will contain the following reservations to the United States:

1. A right-of-way thereon for ditches and canals constructed by the authority of the United States, Act of August 30, 1890 (43 U.S.C. 945).

2. All mineral deposits in the land so patented, and to it, or persons authorized by it, the right to prospect, mine and remove such deposits from the same under applicable law and regulations to established by the Secretary of the Interior.

And will be subject to any of the following authorizations effective at the time of lease/patent issuance:

1. Those rights for electric line purposes granted to Sierra Pacific Power Company, and its assigns, by Right-of-Way N-12773 under the Act of March 4, 1911 (36 Stat. 1253; 43 U.S.C. 961).

2. Those rights for road access purposes granted to Jack and Sherrill Berry, and their assigns, by Right-of-Way N-37493 under the Act of October 21, 1976 (90 Stat. 2776; 43 U.S.C. 1761).

3. Those rights for telephone/communication line purposes granted to Nevada Bell, and its assigns, by Right-of-Way N-37641 pursuant to under the Act of October 21, 1976 (90 Stat. 2776; 43 U.S.C. 1761).

4. Those rights for gas pipeline purposes granted to Sierra Pacific Power Company, and its assigns, by Right-of-Way N-59580 under the Act of February 25, 1920 (41 Stat. 0437; 30 U.S.C. 185, sec. 28).

5. BLM Range Improvement Project No. 540199-Steidlmeyer Well #1 pursuant to the Act of June 28, 1934 (48 Stat. 1269) as amended.

6. A reversionary clause that will allow the United States to revest title in the event that the subject lands are not used for the purposes for which they were conveyed, or if the City transfers title or control of the subject lands to another unqualified party.

7. Any other reservations or conditions that the authorized officer determines appropriate to ensure public access and proper management of the subject lands and interests therein.

The lease/patent will not result in a decrease or reduction to BLM's grazing authorizations for the Spanish Springs/Mustang allotment. Detailed information concerning this action is available at the Carson City Field Office. These public lands were previously withdrawn from surface entry and mining, but not from sales, exchanges, or recreation and public purposes, by Public Land Order 7491. For a period of 45 days after publication of this notice, interested parties may submit comments regarding the proposed lease/conveyance or classification to the Assistant Manager, Non-Renewable Resources, Bureau of Land Management, Carson City Field Office, 5665 Morgan Mill Road, Carson City, NV 89701.

Classification Comments: Interested parties may submit comments involving the suitability of the land for a recreation complex. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a recreation complex. Any adverse comments will be reviewed by the State Director. In the absence of any adverse comments, the classification will become effective 60 days from the date or publication of this notice in the Federal Register. The land will not be offered for lease/conveyance until after the classification becomes final.

SUPPLEMENTARY INFORMATION: Comments, including names and street addresses of respondents will be available for public review at the Carson City Field Office during regular business hours. Individual respondents may request confidentiality. If you wish to withhold your name or address from public review or from disclosure under the Freedom of Information Act, you must state this prominently at the beginning of you comments. Such requests will be honored to the extent allowed by law. All submissions from organizations or businesses, and from individuals identifying themselves as representatives or officials or organization or businesses, will be made available for public inspection in their entirety.

Dated this 10th day of March, 2003.
Charles P. Pope,
Assistant Manager, Non-Renewable Resources, Carson City Field Office.

[FR Doc. 03-10439 Filed 4-28-03; 8:45 am]

BILLING CODE 4310-HC-P